ENVIRONMENTAL PROTECTION AGENCY

[ER-FRL-6610-4]

Environmental Impact Statements; Notice of Availability

Responsible Agency: Office of Federal Activities, General Information (202) 564-7167 or www.epa.gov/oeca/ofa. Weekly receipt of Environmental Impact Statements Filed August 14, 2000 Through August 18, 2000 Pursuant to 40 CFR 1506.9.

EIS No. 000285, DRAFT SUPPLEMENT, COE, HI, Modifications to (Kalaeloa) Barbers Point Harbor, Proposal to Enhance Harbor Operations and Economic Efficiency, and Improve Port Safety, Oahu, HI, Due: October 10, 2000, Contact: Milton Yoshimoto (808) 438-2250.

EIS No. 000286, DRAFT EIS, GSA, CA, Lassen Volcanic National Park General Management Plan, Implementation, Lassen, Plumas, Shasta and Tehama Counties, CA, Due: October 31, 2000, Contact: Alan Schmierer (415) 427-1441.

EIS No. 000287, FINAL EIS, COE, CA, Guadalupe River Watershed Planning Study, Multi-Objective Capital Improvement Project on the Guadalupe River between Highway 101 to Interstate 880 and Interstate 280 to Blossom Hill Road, Santa Clara Valley Water District, Santa Clara County, CA, Due: September 25, 2000, Contact: Robert Smith (415) 977-8450.

EIS No. 000288, DRAFT EIS, AFS, ID, Genesis Placer Claim Gold Suction Dredging, Plan of Operations, Nez Perce National Forest, Red River Ranger District, Red River a Tributary to the South Fork Clearwater River, ID, Due: October 10, 2000, Contact: Dee Sessions (208) 624-3151.

EIS No. 000289, FINAL EIS, AFS, ID, Box Canyon Timber Sale, Vegetative Management, Implementation, Palisades Ranger District, Caribou-Targhee National Forest, Bonneville County, ID, Due: September 25, 2000, Contact: Dee Sessions (208) 624-3151.

EIS No. 000290, DRAFT EIS, FHW, WI, WI-26 State Trunk Highway, Improvements IH-90 at Janesville to STH-60 Watertown Road (1390-04-00), Rock, Dodges and Jefferson Counties, WI, Due: October 30, 2000, Contact: Richard C. Madrzak (608) 829-7510.

EIS No. 000291, FINAL EIS, NPS, MT, Interagency Bison Management Plan for State of Montana and Yellowstone National Park, Implementation, Maintain a wild, Free Ranging Population, Address the risk of Brucellosis Transmission, Park and Gallatin Counties, MT, Due: October 02, 2000, Contact: Sarah Bransom (307) 344-2010.

EIS No. 000292, FINAL EIS, GSA, MA, U.S. Courthouse Springfield, Construction, Hampden County, MA, Due: September 25, 2000, Contact: Frank Saviano (617) 565-5494.

Dated: August 22, 2000.
Joseph C. Montgomery,
Director, NEPA Compliance Division, Office of Federal Activities.

[FR Doc. 00-21785 Filed 8-24-00; 8:45 am]

BILLING CODE 6560-50-P